DEPARTMENT OF TRANSPORTATION

Federal Aviation Administration

14 CFR Part 39

[Docket No. FAA-2023-1712; Project Identifier MCAI-2023-00821-A; Amendment 39-22523; AD 2023-16-04]

RIN 2120-AA64

Airworthiness Directives; Piaggio Aviation S.p.A. Airplanes

AGENCY: Federal Aviation Administration (FAA), DOT.

ACTION: Final rule; request for comments.

SUMMARY: The FAA is adopting a new airworthiness directive (AD) for certain Piaggio Aviation S.p.A. (Piaggio) Model P-180 airplanes. This AD was prompted by a report of corrosion-induced cracking on the horizontal tail trim actuator (HTTA) fitting assembly. This AD requires repetitively inspecting the HTTA fitting assembly for corrosion and cracking until the HTTA fitting assembly is replaced with a new part. The FAA is issuing this AD to address the unsafe condition on these products.

DATES: This AD is effective August 30, 2023.

The Director of the Federal Register approved the incorporation by reference of a certain publication listed in this AD as of August 30, 2023.

The FAA must receive comments on this AD by September 29, 2023.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-1712; or in person at Docket Operations between 9 a.m. and 5 p.m., Monday through Friday, except Federal holidays. The AD docket contains this final rule, the mandatory continuing airworthiness information (MCAI), any comments received, and other information. The street address for Docket Operations is listed above.

Material Incorporated by Reference:

• For service information identified in this final rule, contact Piaggio Aero Industries S.p.A., P180 Customer Support, via Pionieri e Aviatori d'Italia, snc-16154 Genoa, Italy; phone: +39 331 679 74 93; email: technicalsupport@piaggioaerospace.it.

• You may view this service information at the FAA, Airworthiness Products Section, Operational Safety Branch, 901 Locust, Kansas City, MO 64106. For information on the availability of this material at the FAA, call (817) 222-5110. It is also available at regulations.gov under Docket No. FAA-2023-1712.

FOR FURTHER INFORMATION CONTACT: Mike Kiesov, Aviation Safety Engineer, FAA, 1600 Stewart Avenue, Suite 410, Westbury, NY 11590; phone: (816) 329-4144; email: mike.kiesov@faa.gov.

SUPPLEMENTARY INFORMATION:

Comments Invited

The FAA invites you to send any written data, views, or arguments about this final rule. Send your comments to an address listed under ADDRESSES. Include “Docket No. FAA-2023-1712; Project Identifier MCAI-2023-00821-A” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Mike Kiesov, Aviation Safety Engineer, FAA, 1600 Stewart Avenue, Suite 410, Westbury, NY 11590. Any commentary that the FAA receives which is not specifically designated as CBI will be placed in the public docket for this rulemaking.

Background

The European Union Aviation Safety Agency (EASA), which is the Technical Agent for the Member States of the European Union, has issued EASA AD 2023-0122R1, dated July 5, 2023 (referred to after this as the MCAI), to correct an unsafe condition on certain serial-numbered Piaggio Model P.180 airplanes. The MCAI states an occurrence was reported where, during scheduled maintenance, stress corrosion-induced cracking was found on the HTTA fitting assembly. The MCAI states that this type of corrosion can be found on older airplanes, based and operated for an extended period of time near the seaside, exposed to a salty environment, or parked outside in an environment of high humidity or frequent heavy precipitation.

To address the unsafe condition, the MCAI requires doing a high frequency eddy current inspection (HFEC) of the HTTA fitting assembly for corrosion and cracking and, depending on the findings, repeating the inspection and repairing any light corrosion, or replacing the HTTA fitting assembly with a new part. The MCAI states that replacing the HTTA fitting assembly terminates the repetitive inspections.

This condition, if not addressed, could result in structural failure of the HTTA fitting assembly and loss of control of the airplane. You may examine the MCAI in the AD docket at regulations.gov under Docket No. FAA-2023-1712.

Related Service Information Under 1 CFR Part 51

The FAA reviewed Piaggio Aerospace Service Bulletin 80-0492, Revision 3, dated June 12, 2023. This service information specifies procedures for doing an HFEC inspection of the HTTA fitting assembly for corrosion and taking corrective actions. The corrective actions include repeating the HFEC inspection, repairing light corrosion, and replacing the HTTA fitting assembly with a new part.

The FAA also reviewed Piaggio Aerospace Temporary Revision TR-031 to Chapter 51-70-70, dated May 29, 2023, to the Piaggio P.180 Structural Repair Manual. This service information specifies procedures for replacing the HTTA fitting assembly.

This service information is reasonably available because the interested parties have access to it through their normal course of business or by the means identified in ADDRESSES section.

FAA's Determination

These products have been approved by the aviation authority of another country and are approved for operation in the United States. Pursuant to the FAA's bilateral agreement with this State of Design Authority, it has notified the FAA of the unsafe condition described in the MCAI and service information referenced above. The FAA is issuing this AD after determining that the unsafe condition described previously is likely to exist or develop on other products of the same type design.

AD Requirements

This AD requires accomplishing the actions specified in the service information already described, except as discussed under “Differences Between this AD and the MCAI.”

Differences Between This AD and the MCAI

The MCAI allows airplanes with corrosion or cracking in certain areas of the HTTA fitting assembly to continue flights and be repaired within 150 hours time-in-service or 7 months, whichever occurs first. This AD requires that airplanes with corrosion exceeding light corrosion or with cracking on any part of the HTTA fitting assembly be repaired before further flight.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because corrosion on the HTTA fitting assembly could lead to cracking that, if not addressed, could result in structural failure of the HTTA fitting assembly and loss of control of the airplane. For certain airplanes, the initial HFEC inspection must be accomplished within 30 hours time-in-service or 60 calendar days after the effective date of this AD, whichever occurs first. This compliance time is shorter than the time necessary for the public to comment and for publication of the final rule. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 103 airplanes of U.S. registry. The FAA estimates the following costs to comply with this AD:

Estimated Costs
Action | Labor cost | Parts cost | Cost per product | Cost on U.S. operators
Initially inspect HTTA fitting assembly | 55 work-hours × $85 per hour = $4,675 | $0 | $4,675 | $481,525
Report results | 1 work-hour × $85 per hour = $85 | 0 | 85 | 8,755

The FAA estimates the following costs to do any necessary corrective action that would be required based on the results of any inspection. The agency has no way of determining the number of aircraft that might need these actions:

On-Condition Costs
Action | Labor cost | Parts cost | Cost per product
Repetitively inspect HTTA fitting assembly | 55 work-hours × $85 per hour = $4,675 | 0 | $4,675 per inspection cycle.
Report results | 1 work-hour × $85 per hour = $85 | 0 | $85.
Repair light corrosion | 1 work-hour × $85 per hour = $85 | 0 | $85 per inspection cycle.
Replace HTTA fitting assembly | 13 work-hours × $85 per hour = $1,105 | 4,750 | $5,855.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-16-04 Piaggio Aviation S.p.A.: Amendment 39-22523; Docket No. FAA-2023-1712; Project Identifier MCAI-2023-00821-A.

(a) Effective Date

This airworthiness directive (AD) is effective August 30, 2023.

(b) Affected ADs

None.

(c) Applicability

This AD applies to the following Piaggio Aviation S.p.A. Model P-180 airplanes, certificated in any category:

(1) Serial numbers (S/N) 1002, 1034 through 1234 inclusive, 3001 through 3014 inclusive, 3016, and 3018; and

(2) S/N 1004 through 1033 inclusive if modified in accordance with Piaggio Service Bulletin 80-0142.

(d) Subject

Joint Aircraft System Component (JASC) Code: 5520, Elevator Structure.

(e) Unsafe Condition

This AD was prompted by a report of corrosion-induced cracking on the horizontal tail trim actuator (HTTA) fitting assembly. The FAA is issuing this AD to address structural failure of the HTTA fitting assembly. The unsafe condition, if not addressed, could result in loss of control of the airplane.

(f) Compliance

Comply with this AD within the compliance times specified, unless already done.

(g) Definitions

(1) For purposes of this AD, “light corrosion” is corrosion that does not exceed a depth of 0.15 millimeter (mm) and does not extend beyond 1 square inch (645.2 square mm).

(2) For purposes of this AD, a “new part” is a part with zero hours time-in-service (TIS).

(h) Inspection

Within the compliance time for your airplane listed in Table 1 to paragraph (h) of this AD, do a high frequency eddy current inspection of HTTA fitting assembly part number (P/N) 80-363283-401 for corrosion and cracking in accordance with Section 2.B., Part A, Steps (11) through (14) of the Accomplishment Instructions in Piaggio Aerospace Service Bulletin 80-0492, Revision 3, dated June 12, 2023.

BILLING CODE 4910-13-P

(i) Corrective Actions

Based on the result of the inspection required by paragraph (h) of this AD, do the applicable corrective action within the applicable compliance time specified in Table 2 to paragraph (i) of this AD.

BILLING CODE 4910-13-C

(j) Terminating Action

Replacing the HTTA fitting assembly with a new part in accordance with Piaggio Aerospace Temporary Revision TR-031 to Chapter 51-70-70, dated May 29, 2023, to the Piaggio P.180 Structural Repair Manual constitutes terminating action for the repetitive inspections required by paragraph (i) of this AD for that airplane.

(k) Credit for Previous Action

You may take credit for the initial inspection required by paragraph (h) of this AD if you performed the initial inspection before the effective date of this AD using Piaggio Aerospace Service Bulletin 80-0492, Revision 2, dated May 15, 2023.

(l) Reporting Requirement

Report to the manufacturer the results of each inspection required by paragraphs (h) and (i) of this AD within the applicable compliance time specified in paragraph (l)(1) or (2) of this AD using the Confirmation Slip attached to Piaggio Aerospace Service Bulletin 80-0492, Revision 3, dated June 12, 2023.

(1) If the inspection was done on or after the effective date of this AD: Submit the report within 10 days after the inspection.

(2) If the inspection was done before the effective date of this AD: Submit the report within 10 days after the effective date of this AD.

(m) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, mail it to the address identified in paragraph (n)(2) of this AD or email to: 9-AVS-AIR-730-AMOC@faa.gov. If mailing information, also submit information by email. Before using any approved AMOC, notify your appropriate principal inspector, or lacking a principal inspector, the manager of the local flight standards district office.

(n) Additional Information

(1) Refer to European Union Aviation Safety Agency (EASA) AD 2023-0122R1, dated July 5, 2023, for related information. This EASA AD may be found in the AD docket at regulations.gov under Docket No. FAA-2023-1712.

(2) For more information about this AD, contact Mike Kiesov, Aviation Safety Engineer, FAA, 1600 Stewart Avenue, Suite 410, Westbury, NY 11590; phone: (816) 329-4144; email: mike.kiesov@faa.gov.

(3) Service information identified in this AD that is not incorporated by reference is available at the addresses specified in paragraphs (o)(3) and (4) of this AD.

(o) Material Incorporated by Reference

(1) The Director of the Federal Register approved the incorporation by reference of the service information listed in this paragraph under 5 U.S.C. 552(a) and 1 CFR part 51.

(2) You must use this service information as applicable to do the actions required by this AD, unless the AD specifies otherwise.

(i) Piaggio Aerospace Service Bulletin 80-0492, Revision 3, dated June 12, 2023.

(ii) Piaggio Aerospace Temporary Revision TR-031 to Chapter 51-70-70, dated May 29, 2023, to the Piaggio P.180 Structural Repair Manual.

(3) For service information identified in this AD, contact Piaggio Aero Industries S.p.A., P180 Customer Support, via Pionieri e Aviatori d'Italia, snc-16154 Genoa, Italy; phone: +39 331 679 74 93; email: technicalsupport@piaggioaerospace.it.

(4) You may view this service information at the FAA, Airworthiness Products Section, Operational Safety Branch, 901 Locust, Kansas City, MO 64106. For information on the availability of this material at the FAA, call (817) 222-5110.

(5) You may view this service information that is incorporated by reference at the National Archives and Records Administration (NARA). For information on the availability of this material at NARA, email: fr.inspection@nara.gov, or go to: www.archives.gov/federal-register/cfr/ibr-locations.html.

Issued on August 8, 2023.
Victor Wicklund,
Deputy Director, Compliance & Airworthiness Division, Aircraft Certification Service.

[FR Doc. 2023-17575 Filed 8-11-23; 4:15 pm]

BILLING CODE 4910-13-P